SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before February 21, 2014.

ADDRESSES: Send all comments to Andrea Giles, Supervisory Financial Analyst, Office of Credit Risk Management, Small Business Administration, 409 3rd Street, 7th Floor, Washington, DC 20416.

FOR FURTHER INFORMATION CONTACT: Andrea Giles, Supervisory Financial Analyst, 202-205-6301, andrea.giles@sba.gov, or Curtis B. Rich, Management Analyst, 202-205-7030, curtis.rich@sba.gov.

SUPPLEMENTARY INFORMATION: Small Business Lending Companies (SBLCs) and Non-federally regulated lenders (NFRLs). NFRL's are non-depository lending institutions authorized by SBA primarily to make loans under section 7(a) of the Small Business Act. As sole regulator of these institutions, SBA requires them to submit audited financial statements annually as well as interim, quarterly financial statements and other reports to facilitate the Agency's oversight of these lenders.

Description of Respondents: Small Business Lending Companies (SBLCs) and Non-federally regulated lenders (NFRLs).

Total Estimated Annual Responses: 58.

Total Estimated Annual Hour Burden: 7,232.

Curtis Rich,
Management Analyst.

[FR Doc. 2013-30389 Filed 12-19-13; 8:45 am]

BILLING CODE 8025-01-P